DEPARTMENT OF COMMERCE

Bureau of Industry and Security

Action Affecting Export Privileges; Oriental Trading Corporation

In the Matters of: Oriental Trading Corporation, 1st Floor, Masco Plaza, Blue Area, P.O. Box 2879, Islamabad, Pakistan, Respondent; Order Renewing Temporary Denial Order as to Oriental Trading Corporation.

Pursuant to Section 766.24 of the Export Administration Regulations (“EAR”), the Bureau of Industry and Security (“BIS”), U.S. Department of Commerce, through its Office of Export Enforcement (“OEE”), has requested that I renew for 180 days an Order temporarily denying export privileges of Oriental Trading Corporation, 1st Floor, Masco Plaza, Blue Area, P.O. Box 2879, Islamabad, Pakistan.

On March 8, 2005, the Acting Assistant Secretary of Commerce for Export Enforcement found that the Respondent ¹ had conspired to undertake acts that violated the EAR, that such violations had been deliberate and covert, and that there was a strong likelihood of future violations, particularly given the nature of the transactions and the elaborate steps that had been taken by the Respondent to avoid detection by the U.S. Government while knowing that its actions were in violation of the EAR. 70 FR 12442 (Mar. 14, 2005). This finding was based on evidence presented by BIS that indicated that the Respondent had conspired with others, known and unknown, to cause items subject to the EAR to be illegally exported to Pakistan, that it caused exports of items controlled for nuclear non-proliferation reasons to Pakistan with knowledge that violations of the EAR would occur, and that it took actions intending to violate the EAR.

¹ The original order applied to Gold Technology Limited, Flat 23C, 97 High Street, Hong Kong; Hero Peak Limited, Flat C, Block 4, 11/F Golden Bldg, 145 Fuk Wa Street, Sham Shui Po, Kowloon, Hong Kong and Room D, 11/F, Fui Nam Building, 48-51 Connaught Road West, Hong Kong; Joanna Liu, Flat 23C, 97 High Street, Hong Kong; Portson Trading Limited, Room D, 8/F, 217-223 Tung Choi Street, Mongkok, Kowloon, Hong Kong and Room 709 Wing Shan Tower, 173 Des Voeux Road Central, Hong Kong, and Room 2208, 22/F, 118 Connaught Road West, Hong Kong; Sunford Trading Limited, Room 2208 22/F, 118 Connaught Road West, Hong Kong; and Zhenke International Trading Co. Ltd. Tianjin Port Free Trade Zone, Room 801, Gold Beauty Building No. 88, Haibain 8 Road, TPFTZ, Tianjin, Peoples Republic of China. The Office of Export Enforcement is not seeking to renew this temporary denial order against any party other than Oriental Trading Corporation.

BIS continues to investigate this matter and believes that all of the facts found in the original Order continue to justify the renewal of the Order, especially given the nature of the transactions and the steps that have been taken by the Respondent to avoid detection by the U.S. Government while knowing its actions were in violation of the EAR. BIS believes evidence described in the initial request for the Order supports this renewal.

Based on the evidence submitted by BIS, I find that renewal of the Order naming the Respondent is necessary, in the public interest, to prevent an imminent violation of the EAR. A copy of the request for renewal of this Order was served upon the Respondent in accordance with the requirements of 15 CFR 766.24 of the EAR, and no response was received in opposition to this request within the applicable time period described in that section.

It is therefore ordered:

First, that the Respondent, at the address listed above, and its successors and assigns and when acting on behalf of the Respondent, its officers, employees, agents or representatives, (collectively, the “Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of the Denied Persons any item subject to the EAR;

B. Take any action that facilitates the acquisition or attempted acquisition by the Denied Person of the ownership, possession, or control of any item subject to the EAR that has been or will be exported from the United States, including financial or other support activities related to a transaction whereby the Denied Persons acquire or attempt to acquire such ownership, possession or control;

C. Take any action to acquire from or to facilitate the acquisition or attempted acquisition from the Denied Persons of any item subject to the EAR that has been exported from the United States;

D. Obtain from the Denied Persons in the United States any item subject to the EAR with knowledge or reason to know that the item will be, or is intended to be, exported from the United States; or

E. Engage in any transaction to service any item subject to the EAR that has been or will be exported from the United States and which is owned, possessed or controlled by the Denied Persons, or service any item, of whatever origin, that is owned, possessed or controlled by the Denied Persons if such service involves the use of any item subject to the EAR that has been or will be exported from the United States. For purposes of this paragraph, servicing means installation, maintenance, repair, modification or testing.

Third, that after notice and opportunity for comment as provided in section 766.23 of the EAR, any other person, firm, corporation, or business organization related to the Respondent by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) of the EAR, the Respondent may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. The Respondent may oppose a request to renew this Order by filing a written submission with the Assistant Secretary for Export Enforcement, which must be received no later than seven days before the expiration date of the Order.

A copy of this Order shall be served on the Respondent, and shall be published in the Federal Register.

This Order is effective on March 10, 2006 and shall remain in effect for 180 days.

Entered this 3rd day of March, 2006.
Darryl W. Jackson,
Assistant Secretary of Commerce for Export Enforcement.

[FR Doc. 06-2359 Filed 3-10-06; 8:45 am]

BILLING CODE 3510-DT-M